DEPARTMENT OF THE TREASURY

Internal Revenue Service

Proposed Collection; Comment Request for Revenue Procedure 2003-37; Correction

AGENCY: Internal Revenue Service (IRS), Treasury.

ACTION: Notice and request for comments; correction.

SUMMARY: This document contains a correction to the Department of the Treasury, as part of its continuing effort to reduce paperwork and respondent burden, invites the general public and other Federal agencies to take this opportunity to comment on proposed and/or continuing information collections, as required by the Paperwork Reduction Act of 1995, Public Law 104-13 (U.S.C. 3506(c)(2)(A)).

DATES: Written comments are still being accepted and should be received on or before December 28, 2015, to be assured of consideration.

ADDRESSES: Direct all written comments to Christie Preston, Internal Revenue Service, Room 6129, 1111 Constitution Avenue NW., Washington, DC 20224.

SUPPLEMENTARY INFORMATION:

Need for Correction

As published, Revenue Procedure 2003-37 contains an error that may prove to be misleading and is in need of clarification.

On page 66618, in the preamble, first column, under the caption FOR FURTHER INFORMATION CONTACT:, in the seventh line, the language “internet at Lanita.VanDyke@irs.ov” is corrected to read “internet at Lanita.VanDyke@irs.gov”.

Martin V. Franks,
Chief, Publications and Regulations Branch, Legal Processing Division, Associate Chief Counsel, (Procedure and Administration).

[FR Doc. 2015-28343 Filed 11-5-15; 8:45 am]

BILLING CODE 4830-01-P